DEPARTMENT OF COMMERCE

National Oceanic and Atmospheric Administration

[I.D. 010802B]

Mid-Atlantic Fishery Management Council (MAFMC); Public Meetings

AGENCY: National Marine Fisheries Service (NMFS), National Oceanic and Atmospheric Administration (NOAA), Commerce.

ACTION: Notice of public meeting.

SUMMARY: The Mid-Atlantic Fishery Management Council (Council) and its Ecosystem Management Committee, Squid, Mackerel, Butterfish Committee, Protected Resources Committee, and Executive Committee will hold a public meeting.

DATES: The meetings will be held on Monday, January 28 through Thursday, January 31, 2002. See SUPPLEMENTARY INFORMATION for specific dates and times.

ADDRESSES: This meeting will be held at the Radisson Suite Hotel, 350 Rt. 3 West, Secaucus, NJ 07094, telephone 201-863-8700.

Council address: Mid-Atlantic Fishery Management Council, 300 S. New Street, Dover, DE 19904, telephone: 302-674-2331.

FOR FURTHER INFORMATION CONTACT: Daniel T. Furlong, Executive Director, Mid-Atlantic Fishery Management Council; telephone: 302-674-2331, ext. 19.

SUPPLEMENTARY INFORMATION: Monday, January 28, 2002, from 1 p.m. to 4 p.m.—the Ecosystem Planning Committee will meet.

Tuesday, January 29, 2002, from 8 a.m. until noon the Ecosystem Planning Committee will continue its meeting.

Tuesday, January 29, 2002, from 1 p.m. to 4 p.m.—the Squid, Mackerel, Butterfish Committee will meet.

Tuesday, January 29, 2002, from 4 p.m. to 5 p.m.—the Protected Resources Committee will meet.

Wednesday, January 30, 2002, from 9 a.m. to 10. a.m.—the Executive Committee will meet.

Wednesday, January 30, 2002—the Council will convene at 10 a.m. and adjourn at 5 p.m.

Thursday, January 31, 2002, 8 a.m. until 4 p.m.—Council will meet.

Agenda items for the committees and Council meeting(s), as appropriate, are: Discussion of alternative recreational and commercial management approaches for MAFMC species; review scoping comments for Amendment 9 to the Squid, Mackerel, Butterfish FMP, review Amendment 9 issues paper, finalize management measures for Amendment 9 public hearing draft, and develop timeline for Amendment 9 completion; review update to recent bottlenose dolphin take reduction team's report; receive and discuss the advisory report on the status of monkfish, Georges Bank winter flounder, and Loligo squid developed at the 34th Stock Assessment Workshop; discuss approval of Framework Adjustment1 to the Monkfish FMP (options include: 1) no action and allowing the FMP Year 4 default measures to take effect eliminating the directed fishery, 2) the preferred alternative of postponing the Year 4 default measures for one year and adjusting trip limits and days at sea allocations to achieve fishing year 2000 landing levels after accounting for the court-ordered adjustment to the gillnet trip limits, 3) adjusting management measures to reduce catches to the Years 2 and 3 total allowable catch targets); convene public scoping meeting for Amendment 2 to the Monkfish FMP; receive and discuss organizational and committee reports including the New England Council's report regarding possible actions on herring, groundfish, monkfish, red crab, scallops, skates, and whiting.

On Wednesday, January 30, there will be a scoping meeting for Amendment 2 to the Monkfish Fishery Management Plan (FMP). The New England and Mid-Atlantic Fishery Management Councils propose to amend the Monkfish FMP. The amendment process will serve two purposes: it will enable the Councils to modify the FMP rules as needed and to update the analysis of the cumulative impact of the FMP on the human environment. In the process, the Councils will prepare a Supplemental Environmental Impact Statement (SEIS) as described in the National Environmental Policy Act for the amendment. This notice is to inform you that the Councils will gather information for the preparation of the SEIS and to ask for your input on the range of issues to be addressed and alternatives to be considered. The Councils are taking this action for the following reasons: (1) to address updated scientific information on the status of the stocks, (2) to address problems with the implementation and enforcement of the current management program, (3) to evaluate the impact of the rebuilding program on the human environment, (4) to consider proposals for providing controlled access to the monkfish resource south of the North Carolina/Virginia border to vessels from that area that are currently excluded, and (5) to comply with a federal Court Order to update the Essential Fish Habitat (EFH) elements of the FMP. You may comment at any of the public Council or committee meetings where Amendment 2 is on the agenda, or you may submit written comments by February 11, 2002 to:

Paul J. Howard, Executive Director, New England Fishery Management Council, 50 Water Street, Newburyport, MA 01950; telephone: 978-465-0492, fax: 978-465-3116.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to Joanna Davis at the Mid-Atlantic Council (see ADDRESSES) least 5 days prior to the meeting date.

Dated: January 8, 2002.
Richard W. Surdi,
Acting Director, Office of Sustainable Fisheries, National Marine Fisheries Service.

[FR Doc. 02-778 Filed 1-10-02; 8:45 am]

BILLING CODE 3510-22-S